ENVIRONMENTAL PROTECTION AGENCY

40 CFR Part 52

[EPA-R06-OAR-2015-0425; FRL-9952-45-Region 6]

Approval and Promulgation of Air Quality Implementation Plans; Texas; Control of Air Pollution From Motor Vehicles, Vehicle Inspection and Maintenance

AGENCY: Environmental Protection Agency (EPA).

ACTION: Proposed rule.

SUMMARY: The Environmental Protection Agency (EPA) is proposing to approve revisions to the Texas State Implementation Plan (SIP). The revisions to the SIP were submitted in 2015. These revisions are related to the implementation of the state's motor vehicle emissions Inspection and Maintenance (I/M) Program. The EPA is proposing to approve these revisions pursuant to the Clean Air Act (CAA).

DATES: Written comments should be received on or before November 7, 2016.

ADDRESSES: Submit your comments, identified by EPA-R06-OAR-2015-0425, at http://www.regulations.gov or via email to walser.john@epa.gov. For additional information on how to submit comments see the detailed instructions in the ADDRESSES section of the direct final rule located in the rules section of this Federal Register.

FOR FURTHER INFORMATION CONTACT: Mr. John Walser, (214) 665-7128, walser.john@epa.gov.

SUPPLEMENTARY INFORMATION: In the final rules section of this Federal Register, the EPA is approving the State's SIP submittal as a direct rule without prior proposal because the Agency views this as noncontroversial submittal and anticipates no adverse comments. A detailed rationale for the approval is set forth in the direct final rule. If no relevant adverse comments are received in response to this action no further activity is contemplated. If the EPA receives relevant adverse comments, the direct final rule will be withdrawn and all public comments received will be addressed in a subsequent final rule based on this proposed rule. The EPA will not institute a second comment period. Any parties interested in commenting on this action should do so at this time.

For additional information, see the direct final rule which is located in the rules section of this Federal Register.

Dated: September 30, 2016.
Samuel Coleman,
Acting Regional Administrator, Region 6.

[FR Doc. 2016-24206 Filed 10-6-16; 8:45 am]

BILLING CODE 6560-50-P